ENVIRONMENTAL PROTECTION AGENCY

[OPP-2005-0268; FRL-7725-3]

Minor and Specialty Crops Integrated Pest Management (IPM) Special Projects; Request for Proposals

AGENCY: Environmental Protection Agency (EPA).

ACTION: Notice

.

SUMMARY: EPA's Office of Prevention, Pesticides and Toxic Substances (OPPTS) announces the availability of up to $615,000 to address critical pest management needs of U.S. minor and specialty crop growers. The Agency anticipates funding up to five projects. The project period of performance is 3 years, with the possibility of extension. Proposed projects should address minor and specialty crop producers' critical pest management needs and demonstrate the importance and relevancy of the project to implementation of the Food Quality Protection Act (FQPA). This request for proposal was developed in response to recommendations made by the Committee to Advise on Reassessment and Transition (CARAT), a joint EPA and U.S. Department of Agriculture-sponsored federal advisory committee established to advise on the implementation of the FQPA, that the Agency facilitate the transition to reduced-risk pest management approaches for minor and specialty crops. You may access the full text of the grant announcement at http://www.epa.gov/pesticides/grants/index.htm.

Dates: Proposals must be postmarked on or before February 21, 2006.

FOR FURTHER INFORMATION CONTACT: Pat Cimino, Office of Pesticide Programs (7501C), Minor Crop Advisor, Environmental Protection Agency, 1200 Pennsylvania Ave., NW., Washington, DC 20460-0001; telephone number: (703) 308-9357; e-mail: cimino.patricia@epa.gov.

SUPPLEMENTARY INFORMATION:

I. General Information

A. Does this Action Apply to Me?

This action is directed to the 50 states, District of Columbia, U.S. territories or possessions, federally recognized Indian tribal governments and Native American Organizations, public and private universities and colleges, hospitals, laboratories, other public or private nonprofit institutions, and individuals.

If you have any questions regarding the applicability of this action to a particular entity, consult the person listed under FOR FURTHER INFORMATION CONTACT.

B. How Can I Get Additional Information, Including Copies of this Document and Other Related Documents?

1. Docket. EPA has established an official public docket for this action under docket identification (ID) number OPP-2005-0268. The official public docket is the collection of materials that is available for public viewing at the Public Information and Records Integrity Branch (PIRIB), Room 119, Crystal Mall #2, 1800 S. Bell St., Arlington, VA. This docket facility is open from 8:30 a.m. to 4 p.m., Monday through Friday, excluding legal holidays. The docket telephone number is (703) 305-5805.

2. Electronic access. You may obtain electronic copies of this document through the EPA Internet under the “Federal Register” listings at http://www.epa.gov/fedrgstr/.

EDOCKET, EPA's electronic public docket and comment system was replaced on November 25, 2005, by an enhanced federal-wide electronic docket management and comment system located at http://www.regulations.gov/. Follow the on-line instructions.

An electronic version of the public docket is available through EPA's electronic public docket and comment system, EPA Dockets. You may use EPA Dockets at http://www.epa.gov/edocket/ to access the index listing of the contents of the official public docket, and to access those documents in the public docket that are available electronically. Although not all docket materials may be available electronically, you may still access any of the publicly available docket materials through the docket facility identified in Unit I.B.1. Once in the system, select “search,” then key in the appropriate docket ID number.

You may access the full text of the grant announcement at http://www.epa.gov/pesticides/grants/index.htm. Go to http://www.grants.gov to electronically find and apply for competitive grant opportunities from all Federal grant-making agencies. Grants.gov is the single access point for over 1,000 grant programs offered by the 26 Federal grant-making agencies.

II. Overview

The following list provides key information concerning this funding opportunity:

• Federal agency name: Environmental Protection Agency (EPA).

• Funding opportunity title: Minor and Specialty Crops Integrated Pest Management Special Projects; Request for Proposals.

• Funding opportunity number: EPA-OPP-005.

• Announcement type: Announcement of a funding opportunity.

• Catalog of Federal Domestic Assistance (CFDA) number: 66.716.

• Dates: Proposals must be postmarked on or before February 21, 2006.

For detailed information concerning the grant announcement refer to the Agency website at http://www.epa.gov/pesticides/grants/index.htm. The full text of the grant announcement includes specific information regarding the: Purpose and scope; activities to be funded; award information; eligibility requirements; application and submission information; award review information; and regional agency contacts if applicable.

III. Submission to Congress and the Comptroller General

Grant solicitations containing binding legal requirements are considered rules for the purpose of the Congressional Review Act (CRA) (5 U.S.C. 801 et seq.). The CRA generally provides that before a rule may take effect, the agency promulgating the rule must submit a rule report, which includes a copy of the rule, to each House of the Congress and to the Comptroller General of the United States. EPA will submit a report containing this grant solicitation and other required information to the U.S. Senate, the U.S. House of Representatives, and the Comptroller General of the United States prior to publication in the Federal Register. This grant solicitation does not qualify as a “major rule” as defined by 5 U.S.C. 804(2).

List of Subjects

Environmental protection, Pesticides.

Dated: December 5, 2005.
Susan B. Hazen,
Acting Assistant Administrator, Office of Prevention, Pesticides and Toxic Substances.

[FR Doc. E5-8272 Filed 1-3-06; 8:45 am]

BILLING CODE 6560-50-S